DEPARTMENT OF COMMERCE

International Trade Administration

[A-122-853]

Citric Acid and Certain Citrate Salts From Canada: Final Results of Antidumping Duty Administrative Review; 2017-2018

AGENCY: Enforcement and Compliance, International Trade Administration, Department of Commerce.

SUMMARY: The Department of Commerce (Commerce) determines that Jungbunzlauer Canada, Inc. (JBL Canada), producer/exporter of citric acid and certain citrate salts, did not sell subject merchandise at prices below normal value (NV) during the period of review (POR) May 1, 2017 through April 30, 2018.

DATES: Applicable August 19, 2019.

FOR FURTHER INFORMATION CONTACT: Joseph Dowling or George Ayache, AD/CVD Operations, Office VIII, Enforcement and Compliance, International Trade Administration, U.S. Department of Commerce, 1401 Constitution Avenue NW, Washington, DC 20230; telephone: (202) 482-1646 or (202) 482-2623, respectively.

SUPPLEMENTARY INFORMATION:

Background

On July 9, 2019, Commerce published in the Federal Register the Preliminary Results ¹ of the administrative review of the antidumping duty order on citric acid and certain citrate salts from Canada. This review covers one producer/exporter of the subject merchandise, JBL Canada. We invited parties to comment on the Preliminary Results.² No interested party submitted comments.³ Further, no party submitted a request for a hearing in the instant review. Commerce conducted this administrative review in accordance with section 751(a) of the Tariff Act of 1930, as amended (the Act).

¹ See Citric Acid and Citrate Salts from Canada: Preliminary Results of Antidumping Duty Administrative Review; 2017-2018, 84 FR 32710 (July 9, 2019) (Preliminary Results), and accompanying Preliminary Decision Memorandum (PDM).

² Id.

³ JBL Canada submitted a case brief stating: “Respondent JBL has no comments on the Department's Preliminary Results. JBL reserves the right to submit a rebuttal brief in response to any issue(s) which may be raised by Petitioners in their case brief.” See JBL Canada's Letter, “Ninth Administrative Review of the Antidumping Order on Citric Acid and Certain Citrate Sales from Canada—JBL Canada's Case Brief,” dated July 31, 2019.

Scope of the Order ⁴

⁴ See Citric Acid and Citrate Salts from Canada and the People's Republic of China: Antidumping Duty Orders, 74 FR 25703 (May 29, 2009) (Order).

The merchandise subject to the order is citric acid and certain citrate salts from Canada. The product is currently classified under the Harmonized Tariff Schedule of the United States (HTSUS) subheadings 2918.14.0000, 2918.15.1000, 2918.15.5000, and 3824.90.9290. Although the HTSUS numbers are provided for convenience and customs purposes, the written product description, available in the Preliminary Decision Memorandum,⁵ remains dispositive.

⁵ For a complete description of the scope of the Order, see Preliminary Results PDM at 3.

Changes Since the Preliminary Results

As no parties submitted comments on the margin calculation methodology used in the Preliminary Results, Commerce made no adjustments to that methodology in the final results of this review.

Final Results of the Review

As a result of this review, Commerce determines that the following weighted-average dumping margin exists for entries of subject merchandise that were produced and/or exported by the following company during the POR:

Manufacturer/exporter | Weighted- average dumping margin (percent)
Jungbunzlauer Canada, Inc | 0.00

Assessment Rates

Commerce shall determine, and U.S. Customs and Border Protection (CBP) shall assess, antidumping duties on all appropriate entries of subject merchandise in accordance with the final results of this review, pursuant to section 751(a)(2)(C) of the Act and 19 CFR 351.212(b).⁶ Because we calculated a zero margin for JBL Canada in the final results of this review, we intend to instruct CBP to liquidate the appropriate entries without regard to antidumping duties.

⁶ See section 751(a)(2)(C) of the Act; 19 CFR 351.212(b).

Commerce intends to issue the appropriate assessment instructions to CBP 41 days after the date of publication of these final results of review, in accordance with 19 CFR 356.8(a).

Cash Deposit Requirements

The following deposit requirements will be effective upon publication of the notice of these final results for all shipments of citric acid and certain citrate salts from Canada entered, or withdrawn from warehouse, for consumption on or after the publication date as provided by section 751(a)(2) of the Act: (1) The cash deposit rate for JBL Canada will be zero; (2) for merchandise exported by manufacturers or exporters not covered in this review but covered in a completed prior segment of the proceeding, the cash deposit rate will continue to be the company-specific rate published for the most recently completed segment; (3) if the exporter is not a firm covered in this review, a prior review, or the original investigation but the manufacturer is, the cash deposit rate will be the rate established for the most recently completed segment for the manufacturer of the merchandise; and (4) the cash deposit rate for all other manufacturers or exporters will continue to be 23.21 percent, the all-others rate established in the Order. These cash deposit requirements, when imposed, shall remain in effect until further notice.

Notification to Importers

This notice also serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order

In accordance with 19 CFR 351.305(a)(3), this notice also serves as a reminder to parties subject to administrative protective order (APO) of their responsibility concerning the return or destruction of proprietary information disclosed under the APO, which continues to govern business proprietary information in this segment of the proceeding. Timely written notification of the return or destruction of APO materials or conversion to judicial protective order is hereby requested. Failure to comply with the regulations and terms of an APO is a violation subject to sanction.

Notification to Interested Parties

We intend to issue and publish these results in accordance with sections 751(a)(1) and 777(i)(1) of the Act and 19 CFR 351.213(h) and 351.221(b)(5).

Dated: August 12, 2019.
Jeffrey I. Kessler,
Assistant Secretary for Enforcement and Compliance.

[FR Doc. 2019-17770 Filed 8-16-19; 8:45 am]

BILLING CODE 3510-DS-P